DEPARTMENT OF ENERGY

Federal Energy Regulatory Commission

[Docket No. EG00-85-000, et al.]

North Hartland, LLC, et al.; Electric Rate and Corporate Regulation Filings

January 31, 2000.

Take notice that the following filings have been made with the Commission:

1. North Hartland, LLC

[Docket No. EG00-85-000]

Take notice that on January 27, 2000, North Hartland, LLC filed with the Federal Energy Regulatory Commission and application for determination of exempt wholesale generator status pursuant to Part 365 of the Commission's regulations.

North Hartland, LLC will be engaged exclusively in the business of owning the North Hartland Hydroelectric Project and selling electricity at wholesale. It will make wholesale sales to various entities. The North Hartland Project is a 4,000 kW hydroelectric facility completed in 1985, and located in the Town of Hartland, Vermont.

Comment date: February 22, 2000, in accordance with Standard Paragraph E at the end of this notice. The Commission will limit its consideration of comments to those that concern the adequacy or accuracy of the application.

2. Tacoma Energy Recovery Company

[Docket No. EG00-86-000]

Take notice that on January 27, 2000, Tacoma Energy Recovery Company filed with the Federal Energy Regulatory Commission an application for determination of exempt wholesale generator status pursuant to section 32(a)(1) of the Public Utility Holding Company Act of 1935. The applicant, a corporation organized under the laws of the State of Delaware, will be engaged directly and exclusively in operating a 50 MW generating station in Tacoma, Washington and selling electric energy at wholesale.

Comment date: February 22, 2000, in accordance with Standard Paragraph E at the end of this notice. The Commission will limit its consideration of comments to those that concern the adequacy or accuracy of the application.

3. First Electric Cooperative Corporation

[Docket No. EL00-37-000]

Take notice that on January 27, 2000, First Electric Cooperative Corporation (First Electric) tendered for filing a Request For Waiver of Requirements of Order Nos. 888 and 889 and Certain Other Commission Regulations.

Comment date: February 28, 2000, in accordance with Standard Paragraph E at the end of this notice.

4. TransCanada Power (a Division of TransCanada Energy Ltd.)

[Docket No. ER95-692-019]

Take notice that on January 14, 2000, TransCanada Power filed their quarterly report for the quarter ending December 31, 1999, for information only.

5. Conoco Power Marketing Inc.; CSW Energy Services, Inc.

[Docket Nos. ER95-1441-020, ER98-2075-008]

Take notice that on January 20, 2000, the above-mentioned power marketers filed quarterly reports with the Commission in the above-mentioned proceedings for information only.

6. NESI Power Marketing, Inc.

[Docket No. ER97-841-012]

Take notice that on January 21, 2000, NESI Power Marketing, Inc. filed their quarterly report for the quarter ending December 31, 1999, for information only.

7. APS Energy Services; ProLiance Energy, LLC; CHI Power Marketing, Inc.

[Docket Nos. ER99-4122-002, ER97-420-013, ER96-2640-013]

Take notice that on January 19, 2000, the above-mentioned power marketers filed quarterly reports with the Commission in the above-mentioned proceedings for information only.

8. Kincaid Generation L.L.C.; Yadkin, Inc.

[Docket Nos. ER00-1213-000, ER00-1214-000]

Take notice that on January 24, 2000, the above-mentioned affiliated power producers and/or public utilities filed their quarterly reports for the quarter ending December 31, 1999.

Comment date: February 22, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-2648 Filed 2-4-00; 8:45 am]

BILLING CODE 6717-01-P